DEPARTMENT OF COMMERCE

National Oceanic and Atmospheric Administration

50 CFR Part 679

[Docket No. 071106671-8403-03]

RIN 0648-XD67

Fisheries of the Exclusive Economic Zone Off Alaska; Inseason Adjustment to the 2008 Sablefish Total Allowable Catch in the West Yakutat and Southeast Outside Districts; Correction

AGENCY: National Marine Fisheries Service (NMFS), National Oceanic and Atmospheric Administration (NOAA), Commerce.

ACTION: Correction to a final rule; request for comments.

SUMMARY: NMFS is adjusting the 2008 total allowable catch (TAC) amounts for sablefish in the West Yakutat and Southeast Outside Districts. This action is necessary because NMFS has determined that these TACs were incorrectly specified in the Federal Register on February 27, 2008 (73 FR 10562). This action will ensure the sablefish TAC does not exceed the appropriate amount based on the best available scientific information for sablefish in the West Yakutat and Southeast Outside Districts. This action is consistent with the goals and objectives of the Fishery Management Plan for Groundfish of the Gulf of Alaska (FMP).

DATES: Effective 1200 hrs, Alaska local time (A.l.t.), March 14, 2008, through 2400 hrs, A.l.t., December 31, 2008. Comments must be received at the following address no later than 4:30 p.m., A.l.t., March 31, 2008.

ADDRESSES: Send comments to Sue Salveson, Assistant Regional Administrator, Sustainable Fisheries Division, Alaska Region, NMFS, Attn: Ellen Sebastian. You may submit comments, identified by 0648-XD67, by any one of the following methods:

• Electronic Submissions: Submit all electronic public comments via the Federal eRulemaking Portal website at http://www.regulations.gov;

• Mail: P.O. Box 21668, Juneau, AK 99802;

• Fax: (907) 586-7557; or

• Hand delivery to the Federal Building: 709 West 9th Street, Room 420A, Juneau, AK.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Mary Furuness, 907-586-7228.

SUPPLEMENTARY INFORMATION: NMFS manages the groundfish fishery in the Gulf of Alaska (GOA) according to the FMP prepared by the North Pacific Fishery Management Council (Council) under authority of the Magnuson-Stevens Fishery Conservation and Management Act. Regulations governing fishing by U.S. vessels in accordance with the FMP appear at subpart H of 50 CFR part 600 and 50 CFR part 679.

The 2008 sablefish TAC was incorrectly specified as 1,950 mt in the West Yakutat and 3,390 mt in the Southeast Outside Districts of the GOA in the 2008 and 2009 harvest specifications for groundfish in the GOA (73 FR 10562, February 27, 2008). In November 2007, the Council's GOA Plan Team compiled the final 2007 Stock Assessment and Fisheries Evaluation (SAFE) report for the GOA groundfish fisheries, dated November 2007. Due to an inadvertent error, incorrect amounts from the 2007 SAFE report for West Yakutat and Southeast Outside sablefish were presented to the Council, its Statistical and Scientific Committee, and its Advisory Panel. These amounts were 1,950 mt for West Yakutat and 3,390 mt for Southeast Outside. The correct amount should have been 2,120 mt for West Yakutat and 3,220 mt for Southeast Outside and are found in the 2007 SAFE report for sablefish. This results in a 170 mt increase for West Yakutat and a decrease of 170 mt for Southeast Outside. The Council adopted the incorrect amounts and Secretary of Commerce published the incorrect amounts in the 2008 and 2009 final harvest specifications for groundfish in the GOA (73 FR 10562, February 27, 2008).

In accordance with 50 CFR 679.25(a)(1)(iii) and § 679.25(a)(2)(i)(B), the Administrator, Alaska Region, NMFS (Regional Administrator), has determined that, based on the November 2007 SAFE report for this fishery, the current West Yakutat and Southeast Outside TACs were incorrectly specified. Consequently, the Regional Administrator is adjusting the 2008 West Yakutat TAC to 2,120 mt and the Southeast Outside TAC to 3,220 mt.

Pursuant to § 679.20(a)(4), Table 3 of the 2008 and 2009 final harvest specifications for groundfish in the GOA (73 FR 10562, February 27, 2008) is revised for the 2008 sablefish TACs consistent with this adjustment.

Table 3 - Final 2008 Sablefish TAC Specifications in the Gulf of Alaska and Allocations to Hook-and-Line and Trawl Gear
(values are rounded to the nearest metric ton)
Area/District | TAC | Hook-and-line apportionment | Trawl apportionment
Western | 1,890 | 1,512 | 378
Central | 5,500 | 4,400 | 1,100
West Yakutat¹ | 2,120 | 1,853 | 267
Southeast Outside | 3,220 | 3,220 | 0
Total | 12,730 | 10,985 | 1,745
¹Represents an allocation of 5 percent of the combined Eastern Regulatory Area sablefish TAC to trawl gear in the WYK District.

The hook-and-line apportionment of the sablefish TAC is further allocated as to the sablefish Individual Fishing Program (IFQ). For illustrative purposes, this adjustment would change an IFQ allocation of 10,000 pounds based on 88,472 quota share units in the West Yakutat District to 11,010 pounds. This adjustment would change an IFQ allocation of 10,000 pounds based on 143,562 quota share units in Southeast Outside District to 9,499 pounds. The decrease of the Southeast Outside TAC affects 445 IFQ permits.

Correction

In rule FR Doc. E8-3531 published on February 27, 2008 (73 FR 10562) make the following correction: In Table 3 on page 10570, correct the “1,950” TAC for the West Yakutat district to read “2,120” and correct the “3,390” TAC for the Southeast Outside district to read “3,220”.

Classification

This action responds to the best available information on stock abundance for the fishery. The Assistant Administrator for Fisheries, NOAA (AA), finds good cause to waive the requirement to provide prior notice and opportunity for public comment pursuant to the authority set forth at 5 U.S.C. 553(b)(B) as such requirement is contrary to the public interest. This requirement is contrary to the public interest as it would raise conservation concerns as the sablefish TAC in the Southeast Outside District based on the best scientific information available would be exceeded.The sablefish IFQ hook-and-line fishery opened on March 8, 2008. If this inseason adjustment is not effective immediately, the hook-and-line sablefish allocations will be incorrect. U.S. fishing vessels have demonstrated the capacity to catch the TAC allocations in these fisheries. An IFQ permit holder is allocated a dedicated and transferable amount of fish for the year. Constituents are each allocated amounts from several pounds that may be harvested in one fishing trip, to many thousands of pounds. It is possible that some IFQ permit holders, particularly of Southeast Outside sablefish IFQ, have at this time already exceeded the amount that a corrected permit would authorize. Immediate effectiveness of this inseason adjustment will allow NMFS to issue correct IFQ allocations. The immediate effectiveness of this action is required to provide consistent management and conservation of fishery resources based on the best available scientific information, and to give the fishing industry the earliest possible opportunity to plan its fishing operations.

Also, it would constrain fishermen in West Yakutat District from realizing economic benefits from correct allocations of IFQ and would allow for harvests in the Southeast Outside District that exceed the appropriate allocations for sablefish.

NMFS was unable to publish a notice providing time for public comment because NMFS only became aware from a member of the industry of the incorrectly specified TAC as of March 6, 2008, and the IFQ fishery opened March 8, 2008. Additional time for prior public comment would raise conservation concerns for the sablefish allocation in the Southeast Outside District.

The AA also finds good cause to waive the 30-day delay in the effective date of this action under 5 U.S.C. 553(d)(3). This finding is based upon the reasons provided above for waiver of prior notice and opportunity for public comment.

Under § 679.25(c)(2), interested persons are invited to submit written comments on this action to the above address until March 31, 2008.

This action is required by § 679.20 and § 679.25 and is exempt from review under Executive Order 12866.

Authority: 16 U.S.C. 1801 et seq.

Dated: March 14, 2008.
Samuel D. Rauch III
Deputy Assistant Administrator for Regulatory Programs, National Marine Fisheries Service.

[FR Doc. 08-1053 Filed 3-14-08; 4:27 pm]

BILLING CODE 3510-22-S